DEPARTMENT OF AGRICULTURE

Rural Utilities Service

7 CFR Part 5001

[Docket No. RUS-24-AGENCY-0039]

RIN 0572-AC63

OneRD Guarantee Loan Regulation

AGENCY: Rural Business-Cooperative Service, Rural Housing Service, Rural Utilities Service, USDA.

ACTION: Final rule; confirmation.

SUMMARY: Rural Development's Rural Business-Cooperative Service, Rural Housing Service, and Rural Utilities Service, agencies of the United States Department of Agriculture (USDA), collectively referred to as the Agency in this document, published in the Federal Register on September 30, 2024, a final rule with request for comments. Through this action, the agencies are confirming the final rule as it was published and providing responses to the public comments that were received.

DATES: The final rule published at 89 FR 79698 on September 30, 2024, is effective and confirmed as of November 29, 2024.

FOR FURTHER INFORMATION CONTACT: Brian Wiles, Director of Guaranteed Lending, Rural Business-Cooperative Service, United States Department of Agriculture, 1400 Independence Avenue SW, Mail Stop 3201, Room 5803-South, Washington, DC 20250-3201, via phone 405-612-4839 or brian.wiles@usda.gov.

SUPPLEMENTARY INFORMATION: The final rule that published September 30, 2024 (89 FR 79698), included a 30-day comment period that ended October 30, 2024. The intent of the rule was to make necessary revisions to the policy and procedures to strengthen oversight and management of the growing Community Facilities (CF), Water and Waste Disposal (WWD), Business and Industry (B&I), and Rural Energy for America (REAP) guarantee portfolios.

The Agency received detailed, responsive comments from four individual respondents. The Agency reviewed the comments and provided an Agency response below. The Agency has decided to proceed with implementation of the final rule without further amendments.

Sec. 5001.127 Borrower ineligibility conditions.

Comment: All four comments indicated disagreement with the Agency's decision to prohibit an entity that receives income from marijuana operations from receiving Agency assistance.

Agency Response: The Agency is aware that many states have legalized the production and sale of marijuana; however, marijuana is currently listed as a schedule I substance under the Controlled Substances Act (Pub. L. 91-513). As noted in the regulation any entity that derives income from illegal drugs, drug paraphernalia, or any other illegal product or activity are ineligible under Federal Statute.

No change to the rulemaking is necessary. The Agency appreciates the comments received. The Agency confirms the final rule without change.

Joseph Gilson,
Chief of Staff, Rural Development.

[FR Doc. 2025-22660 Filed 12-11-25; 8:45 am]

BILLING CODE 3410-XP-P